DEPARTMENT OF ENERGY

Federal Energy Regulatory Commission

[Docket No. EC04-134-000, et al.]

Central Vermont Public Service Corporation, et al.; Electric Rate and Corporate Filings

July 23, 2004.

The following filings have been made with the Commission. The filings are listed in ascending order within each docket classification.

1. Central Vermont Public Service Corporation and Green Mountain Power Corporation

[Docket No. EC04-134-000]

Take notice that on July 21, 2004, Central Vermont Public Service Corporation (Central Vermont) and Green Mountain Power Corporation (Green Mountain) (collectively, Applicants) filed with the Federal Energy Regulatory Commission an application pursuant to section 203 of the Federal Power Act for authorization to purchase certain shares of voting Class B Common Stock ($100 par value) issued by the Vermont Electric Power Company, Inc. (VELCO). Applicants state that approval of stock issuance by the Vermont Public Service Board is pending. Central Vermont and Green Mountain request expedited approval to permit the rationalization of ownership of VELCO consistent with usage of the system and to allow VELCO to obtain needed capital for its operations.

Applicant states that copies of the filing were served upon the Vermont Public Service Board and the Vermont Department of Public Service.

Comment Date: 5 p.m. Eastern Time on August 11, 2004.

2. Calumet Energy Team, LLC

[Docket No. ER01-389-001]

Take notice that on July 20, 2004, Calumet Energy Team, LLC (Calumet) tendered for its triennial market-power update and an amendment to its FERC Electric Tariff to include Market Behavior Rules pursuant to the Commission's order issued November 17, 2003, Adopting Market Behavior Rules in Docket Nos. EL01-118-000 and EL01-118-001.

Comment Date: 5 p.m. eastern time on August 10, 2004.

3. Devon Power LLC, Middletown Power LLC, Montville Power LLC, and NRG Power Marketing Inc.

[Docket No. ER03-563-041]

Take notice that on July 21, 2004, Devon Power LLC, Middletown Power LLC, Montville Power LLC, and Norwalk Power LLC (collectively Applicants) submitted a compliance filing pursuant to the Commission's order issued April 1, 2004, in Docket No. ER03-563-029, et al., 108 FERC ¶ 61,002. The Applicants submitted revised Updated Schedules 1 and 2 and Fifth Revised Cost of Service Agreements among each of the Applicants and ISO New England Inc. (ISO-NE).

Applicants state that they have provided copies of this filing to ISO-NE and served each person designated on the official service list compiled by the Secretary in this proceeding.

Comment Date: 5 p.m. eastern time on August 11, 2004.

4. Puget Sound Energy, Inc.

[Docket No. ER04-761-001]

Take notice that on July 21, 2004, Puget Sound Energy, Inc. (PSE) submitted a compliance filing pursuant to the Commission's order issued June 21, 2004, in Docket No. ER04-761-000, 107 FERC ¶ 61,287. PSE submitted its Open Access Transmission Tariff (OATT), FERC Electric Tariff Seven Revised Volume No. 7, which includes the pro forma Large Generator Interconnection Procedures (LGIP) and Large Generator Interconnection Agreement (LGIA) issued by the Commission in Order Nos. 2003 and 2003-A, as amended pursuant to the June 21, 2004, order.

Comment Date: 5 p.m. eastern time on August 11, 2004.

5. Sierra Pacific Power Company; Nevada Power Company

[Docket No. ER04-816-001]

Take notice that, on July 20, 2004, Sierra Pacific Power Company and Nevada Power Company (together, Applicants), submitted First Revised Sheet Nos. 74, 74A, 74B and 74C to Sierra Pacific Resources Operating Companies' FERC Electric Tariff Third Revised Volume No. 1, in compliance with the Commission's order issued July 2, 2004, in Docket No. ER04-816-000,108 FERC ¶ 61,005.

Applicants state that copies of the filing were served on parties on the official service list in Docket No. ER04-816-000.

Comment Date: 5 p.m. eastern time on August 10, 2004.

6. Midwest Independent Transmission System Operator, Inc.

[Docket No. ER04-1032-000]

Take notice that on July 21, 2004, the Midwest Independent Transmission System Operator, Inc. (Midwest ISO) submitted Original Service Agreement No. 1399 under its FERC Electric Tariff, Second Revised Volume No. 1, an Interconnection and Operating Agreement among Montana-Dakota Utilities Co., a Division of MDU Resources Group, Inc., the Midwest ISO and Montana-Dakota Utilities Co., a Division of MDU Resources Group, Inc. Midwest ISO requests an effective date of July 14, 2004. Midwest ISO states that copies of the filing were served upon the Midwest ISO's jurisdictional customers.

Comment Date: 5 p.m. eastern time on August 11, 2004.

7. Wabash Valley Power Association, Inc.

[Docket No. ER04-1033-000]

Take notice that on July 21, 2004, Wabash Valley Power Association, Inc. (Wabash Valley), tendered for filing an amendment to its FERC Electric Tariff, Original Volume No. 1, the Formula Rate Tariff for service to Wabash Valley's 27 member cooperatives. Wabash Valley requests an effective date of July 1, 2004.

Wabash Valley states that copies of this filing were served upon Wabash Valley's Members.

Comment Date: 5 p.m. eastern time on August 11, 2004.

8. Florida Power & Light Company

[Docket No. ER04-1034-000]

Take notice that on July 21, 2004, Florida Power & Light Company (FPL), pursuant to the Commission's orders, Standardization of Generator Interconnection Agreements and Procedures, 104 FERC ¶ 61,103 (2003) (Order No. 2003) and 106 FERC ¶ 61,220 (2004) (Order No. 2003-A), submitted its Open Access Transmission Tariff adding the Commission's standard Large Generator Interconnection Procedures and Agreement, including certain revisions to include FPL's Power Factor requirements and the regional reliability criteria.

Comment Date: 5 p.m. eastern time on August 11, 2004.

9. IDT Energy, Inc.

[Docket No. ER04-1035-000]

Take notice that on July 21, 2004, IDT Energy, Inc. (IDT Energy) petitioned the Commission for acceptance of IDT Energy's FERC Rate Schedule No. 1; the granting of certain blanket authorizations, including the authority to sell electric energy, capacity and ancillary services at market-based rates; authority to reassign transmission capacity and resell various congestion-related products; and waiver of certain Commission regulations.

Comment Date: 5 p.m. eastern time on August 11, 2004.

10. Aquila, Inc.

[Docket No. ES04-42-000 and ES04-42-001]

Take notice that on July 19, 2004, as supplemented July 20, 2004, Aquila, Inc. (Aquila) submitted an application pursuant to section 204 of the Federal Power Act seeking authorization to issue securities in an amount not to exceed $700 million that will consist of a combination of: (1) long term convertible debt securities, and (2) common stock equity securities.

Comment Date: 5 p.m. eastern time on August 10, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please e-mail FERCOnlineSupport@ferc.gov, or call (866) 208-3676 (toll free). For TTY, call (202) 502-8659.

Comment Date: 5 p.m. eastern time on July 30, 2004.

Magalie R. Salas,
Secretary.

[FR Doc. E4-1700 Filed 7-29-04; 8:45 am]

BILLING CODE 6717-01-P